DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

The Burlington Northern and Santa Fe Railway Company

[Docket Number FRA-2000-7782]

The Burlington Northern and Santa Fe Railway Company (BNSF) seeks a permanent waiver of compliance with a provision of the Locomotive Safety Standards, 49 CFR 229.21(a), as it pertains to the record keeping requirement for locomotive daily inspection reports. If the petitioner's request is granted, BNSF would file the required report electronically in a secure centralized database that would be set up to track and store the records for the required ninety-two days. The railroad states that each employee performing the inspections has been provided a unique electronic identification which will be utilized in place of the signature. All requirements, date, time location, person conducting inspection, and any non-complying conditions will be reported electronically. BNSF utilizes an onboard record of daily inspection and will continue to do so if their request is granted.

Interested parties are invited to participate in these proceedings by submitting written views, data, or comments. FRA does not anticipate scheduling a public hearing in connection with these proceedings since the facts do not appear to warrant a hearing. If any interested party desires an opportunity for oral comment, that party should notify FRA, in writing, before the end of the comment period and specify the basis for their request.

All communications concerning these proceedings should identify the appropriate docket number and must be submitted to the Docket Clerk, DOT Central Docket Management Facility, Room Pl-401, Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC. on November 27, 2000.
Grady C. Cothen, Jr.,
Deputy Associate Administrator for Safety Standards and Program Development.

[FR Doc. 00-30539 Filed 11-29-00; 8:45 am]

BILLING CODE 4910-06-P